DEPARTMENT OF TRANSPORTATION

Federal Highway Administration

Environmental Impact Statement: King County Washington

AGENCY: Federal Highway Administration (FHWA), King County Department of Transportation, Washington.

ACTION: Notice of Intent to prepare a draft supplemental environmental impact statement (EIS).

SUMMARY: The FHWA, in cooperation with the Washington State Department of Transportation and King County Department of Transportation, is issuing this notice to advise the public that a supplemental to the final environmental impact statement (EIS) will be prepared on the proposal to replace the Elliott Bridge on 149th Avenue Southeast where it crosses the Cedar River approximately three miles east of downtown Renton in King County, Washington.

FOR FURTHER INFORMATION CONTACT: Elizabeth Healy, Transportation and Environmental Engineer, Federal Highway Administration, 711 South Capital Way, Suite 501, Olympia, Washington, 98501-1284, Telephone: (360) 753-9480 or Tina Morehead, Senior Environmental Engineer, King County, Road Services Division, Department of Transportation, King Street Center M.S. KSC-0231, 201 South Jackson Street, Seattle, WA 98104-3856, Telephone: (206) 296-3733.

SUPPLEMENTARY INFORMATION: The Record of Decision for the original EIS for the improvements (FHWA-WA-EIS-92-4-F) was signed on November 21, 1995. In the original EIS, the proposed improvements to the Elliott Bridge provided a three-lane bridge (two travel lanes and one center lane) with pedestrian sidewalk and associated approach road realignment. Improvements to the bridge were and still are considered necessary to provide for traffic circulation, roadway safety, and structural stability.

After approval and subsequent appeal of the local shoreline substantial development permit, King County withdrew its shoreline permit application based on issues related to the federal Endangered Species Act. Since that withdrawal, the county has reevaluated the original purpose and need for the project, reviewed and expanded the alternatives considered, and determined that a supplemental EIS needs to be prepared.

Alternatives under consideration include four action alternatives in addition to the no-action alternative. The four action alternatives include: Alternative IS—replacing the existing bridge with a new bridge approximately 50 feet east of the existing bridge and constructing two offset tee-intersections to provide connections to Southeast Jones Place and Jones Road; Alternative 4S—replacing the existing bridge with a new bridge approximately 820 feet east of the existing bridge and constructing a new road alignment from the existing tee intersection of 152nd Avenue Southeast and SR 169 northeastly to tie into the existing 154th Place Southeast approximately 1,100 feet north of the new bridge, and constructing a new intersection with Jones Road; Alternative 5S—similar to 4S but the new bridge would be located approximately 180 feet further east; and Alternative 7Sb replacing the existing bridge with a new bridge approximately 65 feet west of the existing bridge and constructing a tee intersection to provide connection to Southeast Jones Place and a right turn lane from 154th Place Southeast to Jones Road.

No formal scoping period will be held. Letters describing the proposed action and soliciting comments will be sent to approximate Federal, State, and local agencies, and to private organizations and citizens who have previously expressed or are known to have interest in this proposal. Subsequent to distribution of the draft supplemental EIS, a public hearing will be held during the draft supplemental EIS comment period. The location and time of the public hearing will be announced in the local news media and through a public mailing when it is scheduled. The draft supplemental EIS will be available for public and agency review prior to the public hearing. Release of the draft supplemental EIS for public comment and the public hearing will also be announced in the local news media as these dates are established.

Comments or questions concerning this proposed action and the supplemental EIS should be directed to the FHWA or King County at the address provided above. (Catalog of Federal Domestic Assistance Program Number 20.205, Highway Research, Planning, and Construction. The regulations implementing Executive Order 12372 regarding intergovernment consultation on Federal programs and activities apply to this program.)

Issued on: November 28, 2001.
Elizabeth Healy,
Transportation and Environmental Engineer.

[FR Doc. 01-30167 Filed 12-4-01; 8:45 am]

BILLING CODE 4910-22-M